DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Survey of Shore-based Non-Commercial Fishing on St. Croix, U.S. Virgin Islands.

OMB Control Number: None.

Form Number(s): NA.

Type of Request: Regular submission (request for a new information collection).

Number of Respondents: 915.

Average Hours Per Response: 10 minutes.

Burden Hours: 153.

Needs and Uses: This request is for a new information collection to benefit local fishery managers in the U.S. Virgin Islands (USVI). Non-commercial fishing is an important activity on St. Croix, USVI, yet robust data characterizing the catch, effort and cultural attributes of such fishing are limited. Without these basic data on the non-commercial fishery on St. Croix, it is not possible to develop required fishery management plans. Consequently, local fishery managers have asked for collection of information required to make management decisions, information that will help them to balance the need for more effective fishery management with social, economic and cultural imperatives of the region.

Researchers propose to conduct two distinct data collection efforts, a survey of non-commercial, shore-based fishers. This survey will ascertain the catch, effort, and socioeconomic characteristics of fishers using this mode of fishing on St. Croix. A survey of boat-based, non-commercial fishers on St. Croix to document levels of catch and effort will be submitted separately.

The data gathered will be used to describe recreational and subsistence sectors in St. Croix, and evaluate the socio-economic impacts of federal regulatory actions. In addition, the information will be used to strengthen and improve fishery management decision-making, satisfy legal mandates under Executive Order 12866, the Magnuson Stevens Fishery Conservation and Management Act (U.S.C. 1801 et seq.), the Regulatory Flexibility Act, the Endangered Species Act, and the National Environmental Policy Act, and other pertinent statues.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW, Washington, DC 20230 (or via the Internet at JJessup@doc.gov).

Written comments and recommendations for the proposed information collection should be sent within 30 days of publication of this notice to OIRA_Submission@omb.eop.gov.

Dated: May 9, 2013.
Gwellnar Banks,
Management Analyst, Office of the Chief Information Officer.

[FR Doc. 2013-11425 Filed 5-13-13; 8:45 am]

BILLING CODE 3510-JE-P